DEPARTMENT OF COMMERCE

National Oceanic and Atmospheric Administration

RIN: 0648-XC31

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Habitat/MPA/Ecosystem Committee, in September, 2007, to consider actions affecting New England fisheries in the exclusive economic zone (EEZ). Recommendations from this group will be brought to the full Council for formal consideration and action, if appropriate.

DATES: This meeting will be held on Monday, September 17, 2007, at 1 p.m.

ADDRESSES: This meeting will be held at the Radisson Hotel, 180 Water Street, Plymouth, MA 02360; telephone: (508) 747-4900; fax: (508) 747-8937.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will review the Habitat Plan Development Team (PDT) report on the Great South Channel Habitat Areas of Particular Concern (HAPC) alternative and develop a recommendation to the Council. The Committee will also receive a presentation on the Gulf of Maine Mapping Initiative (GOMMI) that would include an update on regional seafloor mapping activities and needs, as well as GOMMI's legislative outreach campaign. The Committee will also consider other topics at their discretion including, but not limited to, actionable items related to the essential fish habitat (EFH) Omnibus Amendment.

Although non-emergency issues not contained in this agenda may come before these groups for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

These meetings are physically accessible to people with disabilities. Requests for sign language interpretation or other auxiliary aids should be directed to Paul J. Howard, Executive Director, at (978) 465-0492, at least 5 days prior to the meeting date.

Authority: 16 U.S.C. 1801 et seq.

Dated: August 24, 2007.
James P. Burgess,
Acting Director, Office of Sustainable Fisheries, National Marine Fisheries Service.

[FR Doc. E7-17088 Filed 8-28-07; 8:45 am]

BILLING CODE 3510-22-S